DEPARTMENT OF STATE

[Public Notice 8137]

Suggestions for Environmental Cooperation Pursuant to the United States-Korea Environmental Cooperation Agreement

AGENCY: Department of State.

ACTION: Notice of preparation of and request for comments regarding the 2013-2014 United States-Korea Work Program for Environmental Cooperation.

SUMMARY: The Department invites the public, including NGOs, educational institutions, private sector enterprises and other interested persons, to submit written comments or suggestions regarding items for inclusion in the first Work Program implementing the U.S.-Korea Environmental Cooperation Agreement (ECA), signed on January 23, 2012. In preparing such comments or suggestions, we encourage submitters to refer to: (1) The U.S.-Korea ECA, (2) the U.S.-Korea Free Trade Agreement (FTA) Environment Chapter, and (3) the Environmental Review of the FTA. These documents are available at: http://www.state.gov/e/oes/env/trade/c49687.htm.

DATES: To be assured of timely consideration, all written comments or suggestions are requested no later than January 21, 2013.

ADDRESSES: Written comments or suggestions should be emailed to GroutDZ@state.gov or faxed to (202) 647-5947 to the attention of Deborah Grout, Office of Environmental Quality and Transboundary Issues, Bureau of Oceans and International Environmental and Scientific Affairs, U.S. Department of State, with the subject line “U.S.-Korea Environmental Cooperation.” If you have access to the Internet, you can view and comment on this notice by going to: http://www.regulations.gov/#!home and searching on docket number: DOS-2012-0061.

FOR FURTHER INFORMATION CONTACT: Deborah Grout, telephone (202) 647-6777.

SUPPLEMENTARY INFORMATION:

U.S.-Korea Environmental Cooperation Agreement

The United States and Korea signed the Environmental Cooperation Agreement on January 23, 2012. The United States and Korea negotiated the ECA in parallel with the U.S.-Korea Free Trade Agreement. In Articles 3 and 4 of the ECA, the Governments state that they plan to meet to develop and update, as appropriate, a Work Program for Environmental Cooperation. The Work Program will identify and outline environmental cooperation priorities, on-going efforts, and possibilities for future cooperation. Please refer to Article 4 of the ECA for a list of possible areas for cooperation.

We are requesting suggestions for items to include in the 2013-2014 Work Program. For additional information, please visit: http://www.state.gov/e/oes/env/trade/c49687.htm.21014 Work Program. There is no expectation of resources or funding associated with any comments or suggestions for the Work Program.

Dated: December 20, 2012.
George N. Sibley,
Director, Office of Environmental Quality and Transboundary Issues, Department of State.

[FR Doc. 2012-31555 Filed 12-31-12; 8:45 am]

BILLING CODE 4710-09-P